DEPARTMENT OF THE INTERIOR

National Park Service

National Register of Historic Places; Notification of Pending Nominations

Nominations for the following properties being considered for listing in the National Register were received by the National Park Service before February 2, 2002. Pursuant to § 60.13 of 36 CFR part 60 written comments concerning the significance of these properties under the National Register criteria for evaluation may be forwarded by United States Postal Service, to the National Register of Historic Places, National Park Service, 1849 C St. NW., NC400, Washington, DC 20240; by all other carriers, National Register of Historic Places, National Park Service, 800 N. Capitol St. NW., Suite 400, Washington DC 20002; or by fax, 202-343-1836. Written or faxed comments should be submitted by February 28, 2002.

Carol D. Shull,
Keeper of the National Register of Historic Places.

CALIFORNIA

Orange County

Greystone Villa—Cabin 18, Sievers Canyon, Trabuco Ranger District, Cleveland National Forest, 02000151

COLORADO

Denver County

Gates, Russell and Elinor, Mansion, 1365-1375 Josephine, Denver, 02000152

MASSACHUSETTS

Franklin County

East Northfield School, 13 Pine St., Northfield, 02000156

Sunderland Center Historic District, Roughly along S. Main St., from Old Amherst Rd. to French's Ferry Rd., Sunderland, 02000157

Norfolk County

Inness—Fitts House and Studio/Barn, 406 Main St., Medfield, 02000153

Suffolk County

Greenwood Memorial United Methodist Church, 378A-380 Washington St., Boston, 02000154

Worcester County

Dodge Block and Sawyer Building, Bancroft Trust Building (Worcester MRA), 60 Franklin St., Worcester, 02000155

MICHIGAN

Lake County

Podjun, John and Katharine Tunkun, Farm, 9581 E 1 mi. Rd., Ellsworth, 02000160

Oakland County

Axford—Coffin Farm, 384-388 W. Predmore Rd., Oakland Township, 02000159

Botsford—Graser House, 24105 Locust Dr., Farmington Hills, 02000158

Saginaw County

Saginaw Armory, 234 S. Water St., Saginaw, 02000161

MISSOURI

Boone County

Virginia Building, 111 S. Ninth St., Columbia, 02000163

Knox County

Edina Double Square Historic District,

118-124 S. Main St., Edina, 02000164

Platte County

Pleasant Ridge United Baptist Church, Jct. of MO P and Woodruff Rd., Weston, 02000162

NEW HAMPSHIRE

Coos County

Balsams, The, NH 26, 10 mi. E of Colebrook, Dixville, 02000166

Rockingham County

James, Benjamin, House, 186 Towle Farm Rd., Hampton, 02000168

NEW JERSEY

Sussex County

Black Creek Site—28-Sx-297, Maple Grange Rd., Vernon, 02000167

NORTH CAROLINA

Wake County

Peeny, Jesse, House and Outbuildings, NC 1379, 1 mi. SW of NC 1371, Raleigh, 02000165

OKLAHOMA

Beckham County

Danner, J.W., House, 408 N. Fourth St., Sayre, 02000169

Cherokee County

Ross Cemetery, 0.5 mi. S of jct. of Murrell Rd. and N4530 Rd., Park Hill, 02000170

Harper County

Cooper Bison Kill Site, Address Restricted, Fort Supply, 02000171

Jefferson County

First Presbyterian Church, 124 West Broadway, Waurika, 02000175

Rock Island Passenger Station, 105 S. Meridian, Waurika, 02000173

Oklahoma County

Harding Junior High School, 3333 N. Shartel Ave., Oklahoma City, 02000172

Hightower Building, 105 N. Hudson, Oklahoma City, 02000176

VIRGINIA

Highland County

Monterey High School, Spruce St., 0.5 mi. S of US 250, Monterey, 02000178

Loudoun County

Rock Spring Farm, 329 Loudoun St. SW, Leesburg, 02000177

Lynchburg Independent city Lynch's Brickyard House, 700 Jackson St., Lynchburg (Independent City), 02000180

Phaup, William, House, 911 Sixth St., Lynchburg (Independent City), 02000182

Nottoway County

Mountain Hall, 181 Mountain Hall Dr., Crewe, 02000184

Orange County

Rebel Hall, 151 May-Fray Ave., Orange, 02000179

Richmond Independent city

St. Christopher's School, 711 St. Christopher's Rd., Richmond (Independent City), 02000183

Shenandoah County

Munch, Daniel, House, 2588 Seven Fountains Rd., Fort Valley, 02000181

WASHINGTON

Spokane County

Weaver, Lawrence and Lydia, House, 520 W. 16th Ave., Spokane, 02000186

WISCONSIN

Crawford County

Larsen Cave, (Wisconsin Indian Rock Art Sites MPS) Address Restricted, Eastman, 02000187

Milwaukee County

Kenwood Park—Prospect Hill Historic District, Roughly bounded by N. Hackett Ave., E. Edgewood Ave., N. Lake Dr. and E. Newberry Ave., Milwaukee, 02000185

Walworth County

Main Street Historic District, Roughly Main St., from Center St. to Broad St., Lake Geneva, 02000188

A request of REMOVAL has been made for each of the following resources:

ILLINOIS

Cook County

Lewis Round Barn (Round Barns in Illinois TR), NW of Clayton, Clayton vicinity, 84000916

New Michigan School, 2135 S. Michigan Ave., Chicago, 83003562

Washington School, 7970 Washington Blvd., River Forest, 96000855

Johnson County

Ater-Jaques House, 207 W. Elm St., Urbana, 96000855

Kane County

Old Hotel, 241 Main St., Sugar Grove, 89001464

Vermilion County

Temple Building, 102-1-06 N. Vermilion St. Danville, 00001457

SOUTH DAKOTA

Oahe Addition Historic District, Roughly bounded by N. Poplar, LaBarge Ct., and #3rd and 4th Sts. Pierre, 00000599

[FR Doc. 02-3509 Filed 2-12-02; 8:45 am]

BILLING CODE 4310-70-P